DEPARTMENT OF ENERGY

Bonneville Power Administration; Salmon Creek Project

AGENCY: Bonneville Power Administration (BPA), Department of Energy (DOE).

ACTION: Notice of intent to prepare an Environmental Impact Statement (EIS) and notice of floodplain and wetlands involvement.

SUMMARY: This notice announces BPA's intention to prepare an EIS on the Salmon Creek Project, a proposal by the Confederated Tribes of the Colville Indian Reservation (CCT) and the Okanogan Irrigation District (OID) to enhance fish habitat and fish passage and increase instream flows in lower Salmon Creek, a tributary to the Okanogan River in Okanogan County, Washington. The goal of the project is to re-establish self-sustaining anadromous fish populations in the creek while maintaining OID's ability to continue water delivery to its irrigators and, therefore, helping maintain the economic viability of the agricultural community.

DATES: Written comments on the NEPA scoping process are due to the address below no later than March 6, 2002. Comments may also be made at EIS scoping meetings to be held on February 21 and 22, 2002, at the addresses below.

ADDRESSES: Send letters with comments and suggestions on the proposed scope of the Draft EIS to Communications, Bonneville Power Administration—KC-7, P.O. Box 12999, Portland, Oregon, 97212. You may also call BPA's toll-free comment line at 1-800-622-4519 and record your complete name, address, and comments. Comments may also be sent to the BPA Internet address: comment@bpa.gov. To be placed on the project mail list, call 1-800-622-4520. In all communications, please specify the Salmon Creek Project.

Comments may also be made at a public EIS scoping meeting to be held on Thursday, February 21, 2002, 6:30 p.m., at The Cedars Inn, lower-level ballroom, 1 Apple Way Road, Okanogan, Washington. A scoping meeting for staff of government agencies will be held on Friday, February 22, 10 a.m., at the Wenatchee Red Lion Hotel, 1225 N. Wenatchee Avenue, Wenatchee, Washington.

FOR FURTHER INFORMATION, CONTACT: Nancy Weintraub, Project Environmental Manager, Bonneville Power Administration—KEC-4, P.O. Box 3621, Portland, Oregon, 97208-3621; toll-free telephone 1-800-282-3713; direct telephone 503-230-5373; fax number 503-230-5699; or e-mail nhweintraub@bpa.gov.

SUPPLEMENTARY INFORMATION: BPA's need in proposing to fund this project is to mitigate for the loss of anadromous fish and fish habitat due to the operation of the Federal Columbia River hydrosystem and to meet its responsibilities under the Endangered Species Act. The project is proposed to include the rehabilitation of stream channel geometry, revegetation of the streambanks, and provision of increased flows in the lower 4.3 miles of Salmon Creek between OID's diversion dam and the Okanogan River. The Northwest Power Planning Council (Council) has recommended this project to BPA for funding as one of the measures under the Council's program.

This action may involve floodplain and wetlands located in Okanogan County, Washington. In accordance with DOE regulations for compliance with floodplain and wetlands environmental review requirements, BPA will prepare a floodplain and wetlands assessment and will perform this proposed action in a manner so as to avoid or minimize potential harm to or within the affected floodplain and wetlands. The assessment and a floodplain statement of findings will be included in the EIS being prepared for the proposed project in accordance with the National Environmental Policy Act (NEPA).

Proposed Action

BPA proposes to fund the rehabilitation of the lower 4.3 miles of Salmon Creek to achieve long-term channel stability, erosion control, and dependable water supply, thus allowing the passage of spring chinook and summer steelhead to the high-quality habitat existing upstream between Conconully Dam and the OID Diversion Dam on Salmon Creek. Proponents and participants in this action include BPA, CCT, OID, the Bureau of Reclamation (BOR), the Natural Resource Conservation Service, the Okanogan Conservation District, and the Washington Department of Ecology. BOR, CCT, and OID have been identified as cooperating agencies for this EIS process. The project proponents further propose to develop a long-term stream management plan to address daily reservoir operations, water management to meet the needs of the various life cycles of anadromous fish, adaptive management for the channel rehabilitation, and the repopulation of the stream with salmon and steelhead.

Anadromous fish species known to have historically occurred in Salmon Creek include spring chinook (Oncorhynchus tshawytscha) and summer steelhead (Oncorhynchus mykiss). Before the construction of Conconully Dam in 1910 and the OID diversion dam in 1916, these anadromous fish probably utilized a substantial portion of the watershed, which includes approximately 66 miles of perennial streams. Both of these species are listed as “endangered” under the Endangered Species Act. Spring chinook are thought to be extirpated from Salmon Creek, although steelhead are occasionally observed in the creek during high-water years.

Today, conditions in the lower reaches of Salmon Creek (downstream of the OID diversion dam) are inadequate for fish passage. For more than 80 years, the lower 4.3 miles of Salmon Creek have been dewatered under normal irrigation operations, except during high runoff years that result in uncontrolled spill at the reservoirs and diversion dam. The lack of streamflow below the diversion dam has significantly impaired fish access into the potentially productive upper reaches of Salmon Creek from the Okanogan River. Historical land uses on uplands have altered vegetation and increased sediment production. These changes, together with alterations of streambanks and riparian vegetation, have adversely affected the channel geometry, streambank stability, and riparian and aquatic habitat values of lower Salmon Creek. Despite these problems, the Council has identified Salmon Creek as having the best potential for improved fish habitat of all Okanogan River tributaries. Increased instream flows and rehabilitation of the stream channel in the lower reaches of Salmon Creek would allow the passage of spring chinook and summer steelhead to the suitable habitat upstream of the OID diversion dam and would substantially increase the available spawning and rearing habitat for these species in the United States' portion of the Okanogan River Basin.

Process to Date

The project proponents have assessed the feasibility of rehabilitating lower Salmon Creek, have preliminarily identified potential water supply sources for the stream channel and irrigation needs, have conducted field surveys along the affected stream reaches, and have developed a draft conceptual plan for rehabilitating lower Salmon Creek. The proponents have engaged in public outreach and consultation including the landowners within the affected stream reaches, the residents of the project area, and a variety of stakeholders in the stream rehabilitation process.

Alternatives Proposed for Consideration

The rehabilitation of Salmon Creek involves engineering/construction activities in the lower 4.3 miles of the stream channel, establishment of adequate water supply (to be achieved through a combination of measures) to maintain sufficient instream flow in the stream channel in future years while preserving irrigation water supply, and activities both now and in the future to facilitate the redevelopment of viable populations of spring chinook and summer steelhead. Salmon Creek rehabilitation will be accomplished through a combination of (1) stream channel reconstruction, (2) streambank revegetation, and (3) increased instream flows. Alternatives from each of these three areas will be combined in a preferred Salmon Creek rehabilitation program. The No Action alternative will also be considered. Alternatives currently under consideration in each of these areas include:

No Action Alternative

Under this alternative, no changes to the existing environment would occur, and migration of spring chinook and summer steelhead into the upper reaches of Salmon Creek would not be facilitated.

Water Supply Alternatives

Previous studies have determined that, in order to continue full water supply delivery to OID and provide adequate water supply to meet the various life cycle requirements of anadromous fish in Salmon Creek, 7,122 to 9,737 acre-feet of water would be required in addition to the existing supply. The following alternatives, identified in earlier studies, will be considered in the EIS. A combination of these alternatives, in conjunction with existing water conservation efforts, would satisfy irrigation and fish requirements:

• Replace Salmon Lake feeder canal. Under this alternative, the existing feeder canal diverting water from North Fork Salmon Creek to Salmon Lake (the upper reservoir) would be repaired and resized to allow OID to capture additional water for storage in Salmon Lake.

• Construct new pump station. Under this alternative, a new pump station on the Okanogan River would be built along with a new water supply pipeline from the pump station to OID Diversion 2. Under this alternative, the Okanogan River would replace the Conconully reservoirs as the major source of irrigation water supply. The reservoirs would provide year-round instream flows for Salmon Creek and partial water supply to OID.

• Upgrade existing pump station. Under this alternative, the existing pump station on the Okanogan River would be upgraded and the pipeline resized to allow transfer of water to OID Diversion 4. The Conconully reservoirs would supply partial water supply to the irrigation district and year round instream flows in Salmon Creek.

• Raise Salmon Lake Dam. Under this alternative, Salmon Lake Dam would be raised 2 feet, and OID would dedicate a third foot of Salmon Lake storage for instream flows for Salmon Creek.

• Water rights acquisition. Under this alternative, stored water in Conconully would be taken out of permanent supply to the irrigation district, and would be dedicated to instream flows for fish. Partial water rights acquisition may also be considered. Water rights acquisition might reduce the need for pumping water out of the Okanogan River.

• Long-term water lease. Under this alternative, existing water rights would be leased and might provide instream flows for one or more phases of anadromous fish life-cycle requirements.

Stream Channel Alternatives

These alternatives provide for reconstruction of stable stream channel geometry in lower Salmon Creek and will be developed during ongoing engineering studies.

Streambank Revegetation Alternatives

These alternatives provide for erosion control and streambank stabilization in lower Salmon Creek by the recovery or reestablishment of riparian vegetation. They will be developed during ongong engineering studies.

Public Participation and Identification of Environmental Issues

At the informal meetings, a brief opening presentation will be made to introduce the proposal, followed by an open house where people can circulate among information stations to discuss specific issues and have questions answered by members of the project team. Nancy Weintraub of BPA will be available to discuss BPA's purpose and need for the proposed action and the overall EIS process. Hilary Lyman of CCT will discuss the project history, the participants in project planning to date, and the overall project goals. Tom Sullivan of OID will describe the role of OID in project development and the alternatives currently under review for water availability within lower Salmon Creek. Woody Trihey of ENTRIX Environmental Consultants will present the conceptual plan for stream rehabilitation in the lower 4.3 miles of Salmon Creek. Written information will also be available, and BPA and project staff will answer questions and accept oral and written comments.

BPA has established a 30-day scoping period during which affected landowners, concerned citizens, special interest groups, local governments, and any other interested parties are invited to comment on the scope of the proposed EIS. Scoping will help BPA ensure that a full range of issues related to this proposal is addressed in the EIS, and also will identify significant or potentially significant impacts that may result from the proposed project. When completed, the Draft EIS will be circulated for review and comment, and BPA will hold public comment meetings on the Draft EIS. BPA will consider and respond in the Final EIS to comments received on the Draft EIS.

Environmental issues identified to date include: socioeconomic impacts, fish and wildlife impacts and benefits, water use, water quality, flood control/safety, land use, recreational use, and cultural resources.

Maps and further information about the project are available from BPA at the address above.

Issued in Portland, Oregon, on January 22, 2002.
Steven G. Hickok,
Acting Administrator and Chief Executive Officer.

[FR Doc. 02-2598 Filed 2-1-02; 8:45 am]

BILLING CODE 6450-01-P